DEPARTMENT OF COMMERCE

International Trade Administration

[A-533-824]

Polyethylene Terephthalate Film, Sheet and Strip From India: Extension of Time Limit for Preliminary Results of Antidumping Duty Administrative Review

AGENCY: Import Administration, International Trade Administration, Department of Commerce.

DATES: March 12, 2012.

FOR FURTHER INFORMATION CONTACT: Elfi Blum or Toni Page, Import Administration, International Trade Administration, U.S. Department of Commerce, 14th Street and Constitution Avenue NW., Washington, DC 20230; telephone: (202) 482-0197 or (202) 482-1398, respectively.

Background

On August 26, 2011, the Department of Commerce (Department) published a notice of initiation of an administrative review under the antidumping duty (AD) order on polyethylene terephthalate film, sheet and strip from India covering the period July 1, 2010, through June 30, 2011. See Initiation of Antidumping and Countervailing Duty Administrative Reviews and Requests for Revocation in Part, 76 FR 53404 (August 26, 2011). The Department initiated the review with respect to seven companies, Ester Industries Limited, Garware Polyester Ltd., Jindal Polyfilms Limited of India (Jindal), Polypacks Industries (Polypacks), Polyplex Corporation Ltd. (Polyplex), SRF Limited (SRF), and Vacmet India, Ltd. (Vacmet). On August 23, 2011, Vacmet and Polypacks timely withdrew their requests for a review. The Department published a rescission, in part, of the AD administrative review with respect to Vacmet and Polypacks on September 20, 2011. See Polyethylene Terephthalate Film, Sheet and Strip From India: Rescission, In Part, of Antidumping Duty Administrative Review, 76 FR 58244 (September 20, 2011). On November 25, 2011, Petitioners ¹ timely withdrew their request for AD administrative reviews of Ester and Garware, and the Department published a rescission, in part, of the AD administrative review of the aforementioned companies on January 25, 2012. See Polyethylene Terephthalate Film, Sheet and Strip From India: Rescission, In Part, of Antidumping Duty Administrative Review, 77 FR 3730 (January 25, 2012). Jindal, Polyplex, and SRF remain subject to this review. The preliminary results of the antidumping duty administrative review are currently due April 1, 2012.

¹ Petitioners are DuPont Teijin Films, Mitsubishi Polyester Film, Inc., SKC, Inc., and Toray Plastics (America), Inc.

Extension of Time Limit for Preliminary Results

Pursuant to section 751(a)(3)(A) of the Tariff Act of 1930, as amended (the Act), the Department shall issue preliminary results in an administrative review of an antidumping duty order within 245 days after the last day of the anniversary month of the order for which the administrative review was requested. However, if the Department determines that it is not practicable to complete the preliminary results of the review within the aforementioned time limit, section 751(a)(3)(A) of the Act and 19 CFR 351.213(h)(2) allow the Department to extend the 245-day period to 365 days.

Pursuant to section 751(a)(3)(A) of the Act and 19 CFR 351.213(h)(2), we determine that it is not practicable to complete the preliminary results of this review within the original time limit. The Department needs additional time to analyze the extensive sales and cost questionnaire responses that were submitted, and we must issue additional supplemental questionnaires. Therefore, in accordance with section 751(a)(3)(A) of the Act, the Department has decided to extend the time limit for the preliminary results from 245 days to 365 days. The preliminary results will now be due no later than July 30, 2012. Unless extended, the final results continue to be due 120 days after the publication of the preliminary results, pursuant to section 751(a)(3)(A) of the Act and 19 CFR 351.213(h)(1).

This notice is issued and published in accordance with sections 751(a)(3)(A) and 777(i)(1) of the Act.

Dated: March 6, 2012.
Christian Marsh,
Deputy Assistant Secretary for Antidumping and Countervailing Duty Operations.

[FR Doc. 2012-5894 Filed 3-9-12; 8:45 am]

BILLING CODE 3510-DS-P